DEPARTMENT OF JUSTICE

Office of Justice Programs

[OJP(OJJDP) Docket No. 1396]

Office of Juvenile Justice and Delinquency Prevention: Meeting of the Coordinating Council on Juvenile Justice and Delinquency Prevention

AGENCY: Office of Juvenile Justice and Delinquency Prevention, Office of Justice Programs, Justice.

ACTION: Notice of meeting.

SUMMARY: The Office of Juvenile Justice and Delinquency Prevention is announcing the March 19, 2004, meeting of the Coordinating Council on Juvenile Justice and Delinquency Prevention. This meeting will be open to the public.

DATES: Friday, March 19, 2004, from 9 a.m. to 3:30 p.m. (ET).

ADDRESSES: The meeting will take place at the U.S. Department of Health and Human Services, Hubert Humphrey Building, Room 800, 200 Independence Avenue, S.W., Washington, DC. (The building is located two blocks from the Federal Center, SW., stop on the Blue and Orange Metro lines.)

FOR FURTHER INFORMATION CONTACT: Timothy Wight, Designated Federal Official for the Coordinating Council on Juvenile Justice and Delinquency Prevention, OJJDP, by telephone at 202-514-2109, or by e-mail at WightT@ojp.usdoj.gov.

SUPPLEMENTARY INFORMATION: The Coordinating Council on Juvenile Justice and Delinquency Prevention, established pursuant to section 3(2)A of the Federal Advisory Committee Act (5 U.S.C. App. 2), will meet to carry out its advisory functions under Section 206 of the Juvenile Justice and Delinquency Prevention Act of 2002, 42 U.S.C. 5601, et seq. Documents such as meeting announcements, agendas, minutes, and interim and final reports will be available on the Council's Web page at ojjdp.ncjrs.org/council/index.html. (You may also verify the status of the meeting at that Web address.)

The agenda for this meeting will include: (a) Discussion of truancy programs; (b) information on the Final Report of the White House Task Force for Disadvantaged Youth; and (c) formulation of plans for future work of the Council.

Written Comments: Interested parties may submit written comments by March 5th to Timothy Wight, Designated Federal Official for the Coordinating Council on Juvenile Justice and Delinquency Prevention, OJJDP, at WightT@ojp.usdoj.gov. The Coordinating Council on Juvenile Justice and Delinquency Prevention expects public statements presented at its meetings will not be repetitive of previously submitted statements. No oral comments will be permitted at this meeting.

For security purposes, members of the public who wish to attend the meeting must pre-register by calling the Juvenile Justice Resource Center at 301-519-6473 (Daryel Dunston) or 301-519-5790 (Karen Boston), no later than March 5th, 2004. To register on-line, please go to ojjdp.ncjrs.org/council/meetings.html.

Note: Photo identification will be required for admission to the meeting.

Dated: February 23, 2004.
J. Robert Flores,
Administrator, Office of Juvenile Justice and Delinquency, Prevention, and Vice-Chair, Coordinating Council on Juvenile Justice and Delinquency Prevention.

[FR Doc. 04-4404 Filed 2-26-04; 8:45 am]

BILLING CODE 4410-18-P